DEPARTMENT OF JUSTICE

Notice of Lodging of Consent Decree Pursuant to the Resource Conservation and Recovery Act

In accordance with Departmental policy, 28 CFR 50.7, notice is hereby given that a proposed consent decree in United States v. R&R Distributing Company, Inc., No. 1-00-0109 (M.D. Tenn.) was lodged on August 17, 2001, with the United States District Court for the Middle District of Tennessee. The consent decree settles claims for civil penalties and injunctive relief against R&R Distributing Company, Inc. for violations of Section 9006 of the Resource Conservation and Recovery Act (“RCRA”), as amended, 42 U.S.C. 6991e, the Federal requirements and standards relating to petroleum underground storage tanks (“UST”) promulgated pursuant to section 9003 of RCRA, 42 U.S.C. 6991b, and found at 40 CFR part 280, and the requirements and standards of the State of Tennessee's UST program approved by EPA pursuant to section 9004 of RCRA, 42 U.S.C. 6991c, effective January 19, 1999. The State of Tennessee joined the case as a co-plaintiff and is participating in the settlement. Under the proposed consent decree R&R Distributing Company, Inc. will pay a civil penalty of $120,000 in installments over three years, plus interest at the rate applicable to judgments. The penalty will be equally divided between the United States and the State of Tennessee. Injunctive relief is not necessary because R&R has properly closed all the underground storage tanks except for those at four facilities, and has upgraded the underground storage tanks at those facilities. In addition, the State of Tennessee, as part of the settlement, will restore R&R's participation in the Underground Storage Tank Fund to achieve compliance with RCRA's financial assurance requirements for underground storage tank owners and operators.

The Department of Justice will receive, for a period of thirty (30) days from the date of this publication, comments relating to the proposed consent decree. Comments should be addressed to the Assistant Attorney General for the Environment and Natural Resources Division, Department of Justice, Washington, DC 20530, and should refer to United States v. R&R Distributing Company, Inc., DOJ Ref.# 90-7-1-06684.

The proposed consent decree may be examined at the office of the United States Attorney, Middle District of Tennessee, 110 Ninth Ave., S., Ste. A961, Nashville, Tennessee 37203-3870; and the Region 4 Office of the Environmental Protection Agency, 61 Forsyth Street, SW Atlanta, Georgia 30303. A copy of the proposed consent decree may be obtained by mail from the Consent Decree Library, PO Box 7611, Washington, DC 20044-7611. In requesting a copy please refer to the referenced case and enclose a check in the amount of $4.50 (25 cents per page reproduction costs), payable to the Consent Decree Library.

Ellen M. Mahan,
Assistant Section Chief, Environmental Enforcement Section, Environment and Natural Resources Division.

[FR Doc. 01-23165 Filed 9-14-01; 8:45 am]

BILLING CODE 4410-15-M